DEPARTMENT OF COMMERCE

Foreign-Trade Zones Board

[B-53-2019]

Foreign-Trade Zone (FTZ) 26—Atlanta, Georgia; Authorization of Production Activity; Patterson Pump Company (Specialty Pumps); Toccoa, Georgia

On August 29, 2019, Patterson Pump Company submitted a notification of proposed production activity to the FTZ Board for its facility within FTZ 26, in Toccoa, Georgia.

The notification was processed in accordance with the regulations of the FTZ Board (15 CFR part 400), including notice in the Federal Register inviting public comment (84 FR 47480-47481, September 10, 2019). On December 27, 2019, the applicant was notified of the FTZ Board's decision that no further review of the activity is warranted at this time. The production activity described in the notification was authorized, subject to the FTZ Act and the FTZ Board's regulations, including Section 400.14.

Dated: December 27, 2019.
Andrew McGilvray,
Executive Secretary.

[FR Doc. 2019-28330 Filed 12-31-19; 8:45 am]

BILLING CODE 3510-DS-P